DEPARTMENT OF HEALTH AND HUMAN SERVICES

Substance Abuse and Mental Health Services Administration

Center for Substance Abuse Prevention; Notice of Meeting

Pursuant to Public Law 92-463, notice is hereby given of the meeting of the Substance Abuse and Mental Health Services Administration (SAMHSA) Drug Testing Advisory Board to be held in June 2004.

On June 8, the Board will meet in open session from 8:30 a.m. to 11:30 a.m. The open session will include a Department of Health and Human Services drug testing program update, a presentation on the revisions to the “Mandatory Guidelines for Federal Workplace Drug Testing” published in the Federal Register on April 13, 2004 (69 FR 19644-19673), and a Department of Transportation drug testing program update. If anyone needs special accommodations for persons with disabilities, please notify the Contact listed below.

The Board will meet in closed session on June 8, from 11:30 a.m. to 4:30 p.m. to review and evaluate proprietary testing processes and procedures of drug testing laboratories certified to perform drug testing in accordance with the “Mandatory Guidelines for Federal Workplace Drug Testing Programs” (Mandatory Guidelines) published in the Federal Register (59 FR 29908-29931 on June 9, 1994), 63 FR 51118-51119 on September 30, 1997, and 63 FR 63483 on November 13, 1998). Public disclosure of information concerning proprietary laboratory testing processes would result in competitive harm to the laboratories and significantly impede the cooperation of laboratories in fully disclosing information to inspectors during laboratory inspections. The meeting must be conducted in closed session because disclosure of such proprietary laboratory information would significantly impede the Department's ability to certify laboratories to meet the standards of Subpart C of the Mandatory Guidelines and is therefore protected by exemption 9(B) of section 552b of title 5 U.S.C.

The Board will meet in closed session on June 9, from 8:30 a.m. until noon to review and discuss new specimen adulteration methods by which persons subject to drug testing may subterfuge the drug test and the Department's ability to detect them. This meeting must be conducted in closed session since disclosing information on such specimen adulteration methods will significantly frustrate the Department's ability to assure accurate and reliable drug and specimen validity testing, and is therefore protected by exemption 9(B) of section 552b(c) of title 5 U.S.C.

A roster of the board members may be obtained from: Mrs. Giselle Hersh, Division of Workplace Programs, 5600 Fishers Lane, Rockwall II, Suite 815, Rockville, MD 20857, 301-443-6014 (voice). The transcript of the open session will be available on the following Web site http://workplace.samhsa.gov. Additional information for this meeting may be obtained by contacting the individual listed below.

Committee: Substance Abuse and Mental Health Service Administration Drug Testing Advisory Board.

Meeting Date: June 8, 2004; 8:30 a.m.-4:30 p.m. June 9, 2004; 8:30 a.m.-Noon.

Place: Residence Inn by Marriott, 7335 Wisconsin Avenue, Bethesda, Maryland 20814.

Type: Open: June 8, 2004; 8:30 a.m.-11:30 a.m. Closed: June 8, 2004; 11:30 a.m.-4:30 p.m. Closed June 9, 2004; 8:30 a.m.-Noon.

Contact: Donna M. Bush, Ph.D., Executive Secretary, 301-443-6014 (voice) or 301-443-3031 (fax).

Dated: May 17, 2004.
Toian Vaughn,
Committee Management Officer, Substance Abuse and Mental Health Services Administration.

[FR Doc. 04-12737 Filed 6-4-04; 8:45 am]

BILLING CODE 4162-20-M